DEPARTMENT OF HOMELAND SECURITY

Federal Emergency Management Agency

[Docket ID: FEMA-2016-0024; OMB No. 1660-0076]

Agency Information Collection Activities: Submission for OMB Review; Comment Request; Hazard Mitigation Grant Program (HMGP) Application and Reporting

AGENCY: Federal Emergency Management Agency, DHS.

ACTION: Reinstatement.

SUMMARY: The Federal Emergency Management Agency (FEMA) will submit the information collection abstracted below to the Office of Management and Budget for reinstatement and clearance in accordance with the requirements of the Paperwork Reduction Act of 1995. The reinstatement submission will describe the nature of the information collection, the categories of respondents, the estimated burden (i.e., the time, effort and resources used by respondents to respond) and cost, and the actual data collection instruments FEMA will use.

DATES: Comments must be submitted on or before July 13, 2017.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472-3100, email address FEMA-Information-Collections-Management@fema.dhs.gov or Jennie Orenstein, Grants Policy Branch, FEMA at 202-212-4071.

SUPPLEMENTARY INFORMATION: This information collection previously published in the Federal Register on October 28, 2016, at 81 FR 74463 with a 60 day comment period. No comments were received. This information collection expired on October 31, 2016. FEMA is requesting a reinstatement of the collection with change. The changes include updating the term “Grantees” to “Recipients” to comply with 2 CFR 200 and 3002; changes to account for Indian tribal governments being eligible as direct recipients of HMGP as a result of the Sandy Recovery Improvement Act of 2013, Public Law 113-2; and the annual burden hours increased to account for the data collection activities of Indian tribal governments acting as a recipient and respondent under this collection.

The purpose of this notice is to inform the public that FEMA will submit the information collection abstracted below to the Office of Management and Budget for reinstatement and clearance.

Collection of Information

Title: Hazard Mitigation Grant Program (HMGP) Application and Reporting.

Type of information collection: Reinstatement, with change, of a previously approved information collection for which approval has expired.

OMB Number: 1660-0076.

Form Titles and Numbers: FEMA Form 009-0-111A, Quarterly Progress Reports.

Abstract: FEMA administers the Hazard Mitigation Grant Program, which is a post-disaster program that contributes funds toward the cost of hazard mitigation activities in order to reduce the risk of future damage hardship, loss or suffering in any area affected by a major disaster. FEMA uses applications to provide financial assistance in the form of awards and, through recipient quarterly reporting, monitor recipient project activities and expenditure of funds.

Affected Public: State, local or Tribal Government.

Estimated Number of Respondents: 59.

Estimated Total Annual Burden Hours: 51,153.

Estimated Cost: The estimated annual burden hour cost to respondents is $2,177,584. The annual costs to the Federal government are $1,894,720. There are no annual start-up or capital costs.

Dated: June 7, 2017.
Richard Mattison,
Records Management Branch, Chief, Mission Support, Federal Emergency Management Agency, Department of Homeland Security.

[FR Doc. 2017-12216 Filed 6-12-17; 8:45 am]

BILLING CODE 9111-47-P